DEPARTMENT OF AGRICULTURE

Food Safety and Inspection Service

[Docket No. FSIS-2018-0034]

Availability of FSIS Guideline for Industry Response to Customer Complaints

AGENCY: Food Safety and Inspection Service, USDA.

ACTION: Notice of availability and request for comment.

SUMMARY: The Food Safety and Inspection Service (FSIS) is announcing the availability of and requesting comments on a guideline to assist the meat and poultry industry develop written programs for responding to consumer complaints about adulterated or misbranded meat and poultry products. FSIS developed this guideline in response to an increase in the number of recalls of meat and poultry products contaminated with foreign materials.

DATES: Submit comments on or before May 10, 2019.

ADDRESSES: A downloadable version of the guideline is available to view and print at https://www.fsis.usda.gov/wps/portal/fsis/topics/regulatory-compliance/compliance-guides-index once copies of the guideline have been published.

FSIS invites interested persons to submit comments on this guideline. Comments may be submitted by one of the following methods:

• Federal eRulemaking Portal: This website provides the ability to type short comments directly into the comment field on this web page or attach a file for lengthier comments. Go to http://www.regulations.gov. Follow the on-line instructions at that site for submitting comments.

• Mail, including CD-ROMs, etc.: Send to Docket Clerk, U.S. Department of Agriculture, Food Safety and Inspection Service, 1400 Independence Avenue SW, Mailstop 3758, Room 6065, Washington, DC 20250-3700.

• Hand- or courier-delivered submittals: Deliver to 1400 Independence Avenue SW, Room 6065, Washington, DC 20250-3700.

Instructions: All items submitted by mail or electronic mail must include the Agency name and docket number FSIS-2018-0034. Comments received in response to this docket will be made available for public inspection and posted without change, including any personal information, to http://www.regulations.gov.

Docket: For access to background documents or comments received, call (202)720-5627 to schedule a time to visit the FSIS Docket Room at 1400 Independence Avenue SW, Room 6065, Washington, DC 20250-3700.

FOR FURTHER INFORMATION CONTACT: Roberta Wagner, Assistant Administrator, Office of Policy and Program Development; Telephone: (202) 205-0495.

SUPPLEMENTARY INFORMATION:

Background

The Food Safety and Inspection Service (FSIS) administers a regulatory program under the Federal Meat Inspection Act (FMIA) (21 U.S.C. 601 et seq.), the Poultry Products Inspection Act (PPIA) (21 U.S.C. 451 et seq.), and the Egg Products Inspection Act (EPIA) (21 U.S.C. 1031 et seq.) to protect the health and welfare of consumers. The Agency is responsible for ensuring that meat, poultry, and egg products are safe, wholesome, and correctly labeled and packaged.

FSIS is announcing the availability of a guideline to assist all FSIS-regulated establishments that slaughter, or further process inspected meat and poultry products to develop and implement procedures for responding to customer complaints of adulterated and misbranded meat and poultry products. FSIS developed this document in response to an increase in the number of recalls of meat and poultry products contaminated with foreign materials. In many cases, the recalling establishments had received multiple customer complaints before these recalls.

While FSIS specifically developed this document to address foreign material customer complaints, establishments can apply the information to other customer complaints of adulterated or misbranded products in commerce. FSIS encourages establishments that may receive customer complaints for adulterated or misbranded meat and poultry products to follow this guideline. This document does not present or describe any new regulatory requirements. This guideline represents current FSIS thinking, and FSIS will update it as necessary to reflect comments received and any additional information that becomes available.

Additional Public Notification

Public awareness of all segments of rulemaking and policy development is important. Consequently, FSIS will announce this Federal Register publication on-line through the FSIS web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Constituent Update is available on the FSIS web page. Through the web page, FSIS provides information to a much broader, more diverse audience. In addition, FSIS offers an email subscription service which provides automatic and customized access to selected food safety news and information. This service is available at: http://www.fsis.usda.gov/subscribe. Options range from recalls to export information, regulations, directives, and notices. Customers can add or delete subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail:U.S. Department of Agriculture, Director, Office of Adjudication, 1400 Independence Avenue SW, Washington, DC 20250-9410.

Fax: (202) 690-7442.

Email: program.intake@usda.gov.

Persons with disabilities who require alternative means for communication (Braille, large print, audiotape, etc.), should contact USDA's TARGET Center at (202) 720-2600 (voice and TDD).

Done in Washington, DC.
Carmen M. Rottenberg,
Administrator.

[FR Doc. 2019-04350 Filed 3-8-19; 8:45 am]

BILLING CODE 3410-DM-P